Executive Order 13977 of January 18, 2021

Protecting Law Enforcement Officers, Judges, Prosecutors, and Their Families

By the authority vested in me as President by the Constitution and the laws of the United States of America, it is hereby ordered as follows:

Section 1. Purpose. Under the Constitution and Federal law, our Government vests in judges, prosecutors, and law enforcement officers the power to make decisions of enormous consequence. Because of the importance of their work, these public servants face unique risks to their safety and the safety of their families. Some who face or have received an adverse judicial decision have sought to intimidate or punish judges and prosecutors with threats of harm. Moreover, judges, prosecutors, and law enforcement officers are symbols within our communities of law and order and may be targeted for that reason alone. And at times, family members of public servants have become victims. Last year, a former litigant before a Federal judge in New Jersey tragically murdered the judge's 20-year-old son and critically wounded her husband. Judges, prosecutors, and law enforcement officers' resiliency in the face of the danger they regularly face is an inspiration for all of us in public service.

Judges, prosecutors, and law enforcement officers should not have to choose between public service and subjecting themselves and their families to danger. My Administration has no higher priorities than preserving the rule of law in our country and protecting the men and women who serve under its flag. Accordingly, I am ordering enhanced protections for judges, prosecutors, and law enforcement officers. Federal law already allows Federal and State law enforcement officers to protect themselves by carrying a concealed firearm, but the Federal Government can do more to cut the red tape that Federal law enforcement officers must navigate to exercise their right. The current threat to Federal prosecutors also demands an expansion of their ability to carry a concealed firearm, as allowed under the Department of Justice's existing authorities. Finally, the Congress should act expeditiously to adopt legislation extending the right to carry a concealed firearm to Federal judges and pass other measures that will expand our capacity to combat threats of violence against judges, prosecutors, and law enforcement officers.

Sec. 2. Removing Obstacles to Federal Law Enforcement Officers Qualifying For Concealed Carry Under the Law Enforcement Officers Safety Act of 2004. (a) It shall be the policy of the United States to remove any undue obstacle preventing current or retired Federal law enforcement officers from carrying a concealed firearm as allowed under the Law Enforcement Officers Safety Act of 2004, as amended (18 U.S.C. 926B, 926C) (LEOSA).

(b) The heads of all executive departments and agencies (agencies) that employ or have employed qualified law enforcement officers or qualified retired law enforcement officers, as those terms are defined in the LEOSA, shall act expeditiously to implement the policy set by subsection (a) of this section.

(c) The heads of all agencies that employ or have employed qualified law enforcement officers or qualified retired law enforcement officers, as those terms are defined in the LEOSA, shall submit a report to the President, through the Assistant to the President for Domestic Policy, within 30 days of the date of this order, reporting on the implementation of this order and analyzing qualified persons' ability to carry a concealed firearm under the LEOSA.

(d) The report required by subsection (c) of this section shall:

(i) identify any obstacles that the agency's qualified law enforcement officers or qualified retired law enforcement officers presently face in carrying a concealed firearm under the LEOSA;

(ii) identify any categories of the agency's qualified law enforcement officers or qualified retired law enforcement officers who are presently unable to carry a concealed firearm under the LEOSA;

(iii) identify the steps the agency has taken to implement the policy set by subsection (a) of this section; and

(iv) identify the steps the agency plans to take in the future to implement the policy set by subsection (a) and explain why it was not possible to take these steps before the report was submitted.

Sec. 3. Authorizing Concealed Carry By Federal Prosecutors. (a) Within 30 days of the date of this order, the Attorney General shall propose a regulation revising section 0.112 of title 28, Code of Federal Regulations, to provide that the special deputation as a Deputy United States Marshal shall be granted upon request to any Federal prosecutor when the Federal prosecutor or his or her family members face risk of harm as a result of the Federal prosecutor's government service and as appropriate.

(b) The regulation proposed pursuant to this section shall:

(i) include with the special deputation the power to possess and carry firearms but not include law enforcement powers such as the power to make arrests for violations of Federal law and the court-related duties of United States Marshals; and

(ii) require appropriate training in firearm safety and use as a condition to any special deputation.

(c) Within 30 days of the date of this order, the Attorney General shall revise other Department policies to permit special deputation consistent with subsections (a) and (b) of this section to the extent consistent with applicable law.

Sec. 4. Expanding the Federal Government's Protection of Judges, Prosecutors, and Law Enforcement Officers. (a) The Attorney General shall direct the Director of the Marshals Service to prioritize the protection of Federal judges and Federal prosecutors.

(b) The Attorney General shall prioritize the investigation and prosecution of Federal crimes involving actual or threatened violence against judges, prosecutors, or law enforcement officers or their family members, if the family member was targeted because of that person's relation to a judge, prosecutor, or law enforcement officer.

(c) The Attorney General and Secretary of Homeland Security shall coordinate a review within the executive branch to assess the feasibility, as appropriate and consistent with applicable law, of facilitating the removal of, or minimizing the availability of, personally identifiable information appearing in public sources of judges, prosecutors, and law enforcement officers employed by the Federal Government, and shall use the results of this review to inform such persons of related security vulnerabilities.

(d) Within 30 days of the date of this order, the Attorney General shall assess the need to revise subsection 0.111(e) of title 28, Code of Federal Regulations, to protect Federal prosecutors. If any revision is needed, the Attorney General shall take immediate steps to issue a proposed rule that would amend section 0.111(e) accordingly.

(e) The heads of all agencies shall examine the extent to which they collect personally identifiable information from judges, prosecutors, or law enforcement officers, and as appropriate and consistent with applicable law, allow such persons to provide a Post Office box address in lieu of home address information.

Sec. 5. Proposing Legislation to Enhance the Protection of Judges, Prosecutors, and Law Enforcement Officers. (a) Within 30 days of the date of this order, the Attorney General shall develop and propose Federal legislation providing additional protection for judges, prosecutors, and law enforcement officers.

(b) The proposed legislation described in subsection (a) of this section shall:

(i) authorize current and former Federal judges and current and former Federal prosecutors to possess or carry firearms when they or their family members face risk of harm as a result of their Federal government service, irrespective of Federal, State, and local laws which may restrict the possession or carrying of firearms;

(ii) promote the removal and minimization of personally identifiable information from public websites and records of current and former judges, prosecutors, and law enforcement officers, as appropriate and as allowed under the Constitution;

(iii) expand the ability of judges, prosecutors, and law enforcement officers to use Post Office box addresses in lieu of home address information;

(iv) authorize additional appropriations and authority for the Department of Homeland Security, Marshals Service, and Federal Bureau of Investigation, including appropriations to hire and train additional personnel and authority for agencies to respond to both civil unrest and threats to Federal courthouses;

(v) increase penalties for threatened and actual violence against Federal judges, prosecutors, and law enforcement officers and their families, including providing that violence against a Federal judge, prosecutor, or law enforcement officer's family member shall be punished as though the act was committed against the Federal judge, prosecutor, or law enforcement officer if the family member was targeted because of that person's relation to a Federal judge, prosecutor, or law enforcement officer;

(vi) prevent State and local governments from obstructing the ability of qualified law enforcement officers and qualified retired law enforcement officers, as those terms are defined by the LEOSA, from carrying a concealed firearm pursuant to the LEOSA, including by refusing to issue identification documents; and

(vii) propose other amendments to strengthen the LEOSA, if appropriate.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 18, 2021.

[FR Doc. 2021-01635

Filed 1-21-21; 11:15 am]

Billing code 3295-F1-P